ENVIRONMENTAL PROTECTION AGENCY

[ER-FRL-8986-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/. An explanation of the ratings assigned to draft environmental impact statements (EISs) was published in FR dated July 17, 2009 (74 FR 34754).

Draft EISs

EIS No. 20090313, ERP No. D-AFS-K65379-CA, Freds Fire Reforestation Project, Implementation, EL Dorado National Forest, Placerville and Pacific Ranger Districts, El Dorado County, CA.

Summary: EPA expressed environmental concerns about the quality of herbicide toxicity data and the clarity of information presented in comparing alternatives. Rating EC2.

EIS No. 20090329, ERP No. D-DOE-H09800-KS, Abengoa Biorefinery Project, To Support the Design, Construction, and Startup of a Commercial-Scale Integrated Biorefinery, Federal Funding, Located near the City Hugoton, Stevens County, KS.

Summary: EPA expressed environmental concerns about impacts to groundwater resources and the lack of information on biomass harvest sustainability and disposition of solid waste during construction/operation. EPA also noted that air quality modeling will require an update due to project design changes. Rating EC2.

EIS No. 20090344, ERP No. D-AFS-J65549-WY, Rattlesnake Forest Management Project, Proposes to Implement Multiple Resource Management Action, Bearlodge Ranger District, Black Hills National Forest, Crook County, WY.

Summary: EPA expressed environmental concerns about air quality impacts, and requested additional air quality information and mitigation. Rating EC2.

EIS No. 20090352, ERP No. D-FHW-E40829-NC, Elizabeth Brady Road (NC-1879) Extension Project, Widening and Extension of NC-1879 from the Intersection of NC-86 with US 70 Business to North of US-70 Bypass at the Intersection of St. Mary's Road NC-1002, Hillsborough Central Business, Orange County, NC.

Summary: EPA expressed environmental concerns about stream impacts, riparian buffer impacts, historic property impacts, and impacts to prime farmlands. Rating EC2.

Final EISs

EIS No. 20090331, ERP No. F-COE-K39116-CA, San Pedro Waterfront Project, Proposed Specific Development Project and Associated Infrastructure Improvements on Approximately 400 Acres, Currently Operated by Los Angeles Harbor Department (LAHD), Located along the West Side of Los Angeles Harbor's Main Channel, from the Vincent Thomas Bridge to Cabrillo Beach, US Army Section 10 and 404 and Section 103 Marine Protection, Research, and Sanctuaries Act Permits, (MPRSA) City of Los Angeles, CA.

Summary: EPA continues to have concerns about the unavoidable air quality impacts to environmental justice communities.

EIS No. 20090335, ERP No. F-AFS-K65341-AZ, Black River Exchange Project, Proposal to Exchange Federal and Non-Federal Lands, Apache-Sitgreaves National Forests, Apache County, AZ.

Summary: EPA does not object to the proposed project.

EIS No. 20090347, ERP No. F-AFS-J65512-MT, Butte Lookout Project, Proposed Timber Harvest, Prescribed Burning, Road Work and Management Activities, Missoula Ranger District, Lola National Forest, Missoula County, MT.

Summary: EPA continues to have environmental concerns because significant portions of the proposed rehabilitative and restorative work are not currently funded. EPA encouraged timely funding of the remainder of the proposed rehabilitative and restorative work.

EIS No. 20090351, ERP No. F-AFS-J65503-WY, Thunder Basin National Grassland Prairie Dog Management Strategy, Land and Resource Management Plan Amendment #3, Proposes to Implement a Site-Specific Strategy to Manage Black Trailed Prairie Dog, Douglas Ranger District, Medicine Bow-Routt National Forests and Thunder Basin National Grassland, Campbell, Converse, Niobrara and Weston Counties, WY.

Summary: EPA continues to have environmental concerns About impacts to black-footed ferret habitat.

EIS No. 20090354, ERP No. F-USN-K11023-00, West Coast Basing of the MV-22 Determining Basing Location(s) and Providing Efficient Training Operations, CA, AZ.

Summary: EPA expressed environmental concerns about project-related noise impacts.

EIS No. 20090355, ERP No. F-AFS-K65361-CA, Thom-Seider Vegetation Management and Fuels Reduction Project, To Respond to the Increasing Density and Fuels Hazard Evident along the Klamath River between Hamburg and Happy Camp, Klamath National Forest, Siskiyou County, CA.

Summary: EPA does not object to the proposed project.

EIS No. 20090357, ERP No. F-NPS-H65028-MO, Jefferson National Expansion Memorial, General Management Plan, Implementation, St. Louis, MO.

Summary: EPA does not object to the proposed project.

EIS No. 20090359, ERP No. F-FHW-H40194-MO, MO-63 Corridor Improvement Project, To Correct Roadway Deficiencies, Reduce Congestion and Provide Continuity along the MO-63 Corridor on the Existing Roadway and on New Location, Osage, Maries and Phelps Counties, MO.

Summary: EPA continues to have environmental concerns about stream and wetland impacts, and requested additional mitigation.

EIS No. 20090361, ERP No. F-NOA-A91073-00, Programmatic—Toward an Ecosystem Approach for the Western Pacific Region: From Species-Based Fishery Management Plans to Place-Based Fishery Ecosystem Plans, Bottomfish and Seamount Groundfish, Coral Reef Ecosystems, Crustaceans, Precious Corals, Pelagics, Implementation, American Samoa, Commonwealth of the Northern Mariana Islands, Hawaii, U.S. Pacific Remote Island Area.

Summary: No formal comment letter sent to the preparing agency.

Dated: December 12, 2009.
Robert W. Hargrove,
Director, NEPA Compliance Division, Office of Federal Activities.

[FR Doc. E9-29561 Filed 12-10-09; 8:45 am]

BILLING CODE 6560-50-P